DEPARTMENT OF TRANSPORTATION

Federal Aviation Administration

14 CFR Part 39

[Docket No. FAA-2006-24073; Directorate Identifier 2002-NM-272-AD]

RIN 2120-AA64

Airworthiness Directives; Boeing Model 727-200 Series Airplanes Equipped With a No. 3 Cargo Door

AGENCY: Federal Aviation Administration (FAA), Department of Transportation (DOT).

ACTION: Notice of proposed rulemaking (NPRM).

SUMMARY: The FAA proposes to supersede an existing airworthiness directive (AD) that applies to certain Boeing Model 727-200 series airplanes. The existing AD currently requires initial and repetitive inspections for cracks in the forward frame of the No. 3 cargo door cutout; and corrective actions, if necessary. The existing AD also provides for an optional structural modification, which terminates the repetitive inspections. This proposed AD would reduce the compliance time for the initial inspections and add an optional method of inspection for both the initial and repetitive inspections. This proposed AD would also add initial and repetitive inspections of an additional area and repair if necessary. Additionally, this proposed AD would clarify that the previously optional structural modification is now required by other rulemaking. This proposed AD results from additional reports of cracking in the forward frame of the No. 3 cargo door cutout. We are proposing this AD to detect and correct cracking of the forward frame and fuselage skin of the No. 3 cargo door cutout, which could result in failure of the frame and skin, and consequent rapid decompression of the airplane.

DATES: We must receive comments on this proposed AD by April 21, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

For service information identified in this proposed AD, contact Boeing Commercial Airplanes, P.O. Box 3707, Seattle, Washington 98124-2207.

FOR FURTHER INFORMATION CONTACT: Daniel F. Kutz, Aerospace Engineer, Airframe Branch, ANM-120S, FAA, Seattle Aircraft Certification Office, 1601 Lind Avenue, SW., Renton, Washington 98055-4056; telephone (425) 917-6456; fax (425) 917-6590.

SUPPLEMENTARY INFORMATION:

Comments Invited

We invite you to submit any relevant written data, views, or arguments regarding this proposed AD. Include the docket number “Docket No. FAA-2006-24073; Directorate Identifier 2002-NM-272-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On August 10, 1987, we issued AD 86-17-05 R1, amendment 39-5714 (52 FR 32534, August 28, 1987), for certain Boeing Model 727-200 series airplanes. AD 86-17-05 R1 requires initial and repetitive visual inspections of the forward frame of the No. 3 cargo door cutout for cracks, and repair of any crack detected. That AD also provides for optional structural modification of uncracked frames, which terminates the repetitive inspections.

Actions Since Existing AD Was Issued

Since we issued AD 86-17-05 R1, we have received reports indicating that the frame of the No. 3 cargo door cutout was severed on two Model 727-200 series airplanes. Both airplanes had accumulated approximately 24,500 total flight cycles (i.e., approximately 4,800 flight cycles fewer than the threshold specified in AD 86-17-05 R1 for the initial inspection of the frame.) We have determined that this damage was a result of fatigue cracking. Cracking of the forward frame of the No. 3 cargo door cutout, if not corrected, can result in failure of the forward frame of the No. 3 cargo door cutout and consequent rapid decompression of the airplane.

Other Relevant Rulemaking

Also since the issuance of AD 86-17-05 R1, we issued AD 90-06-09, amendment 39-6488 (55 FR 8370, March 7, 1990), for certain Boeing Model 727 series airplanes. That AD requires certain structural modifications including a frame reinforcement preventative modification of the forward frame of the No. 3 cargo door cutout. Boeing Alert Service Bulletin 727-53A0169, Revision 1, dated March 28, 1986; Revision 2, dated May 23, 1986; Revision 3, dated June 11, 1987; and Revision 4, dated January 21, 1989; are referenced in Boeing Document D6-54860, Revision C, dated December 11, 1989 (which is referenced as the appropriate source of service information for accomplishing the structural modifications in AD 90-06-09) as acceptable sources of service information for accomplishing the frame reinforcement preventative modification of the forward frame of the No. 3 cargo door cutout. Doing the frame reinforcement preventative modification of the forward frame of the No. 3 cargo door cutout, as required by paragraph A. of AD 90-06-09, terminates the repetitive inspections required by this proposed AD.

Relevant Service Information

We have reviewed Boeing Service Bulletins 727-53A0169, Revision 5, dated November 2, 1989; and Revision 6, dated September 28, 2002. The service bulletins describe procedures for an initial penetrant or visual inspection of the forward and aft sides of the forward frame of the No. 3 cargo door cutout, including a portion of the exterior skin, frame web, and inner flanges, to find cracking; and related investigative and corrective actions, if necessary. The related investigative actions include performing repetitive inspecting if no crack is found and following repair of any crack that is found. The corrective actions include contacting Boeing for repair instructions for any crack found in the skin and certain cracks found in the frame; replacing any cracked segment of the frame with a new or serviceable segment, or repairing any crack found in the frame and reporting certain information to Boeing following the repair; and inspections for repairs made previously. The service bulletin also describes procedures for a frame reinforcement preventative modification of the forward frame of the No. 3 cargo door cutout that would eliminate the need for the repetitive inspections. Accomplishing the actions specified in the service information is intended to adequately address the unsafe condition.

FAA's Determination and Requirements of the Proposed AD

The unsafe condition described previously is likely to exist or develop on other airplanes of the same type design. We are proposing to supersede AD 86-17-05 R1. This proposed AD would continue to require initial and repetitive inspections to find cracking in the forward frame of the No. 3 cargo door cutout; and corrective actions, if necessary. This proposed AD would reduce the compliance time for the initial inspections and add an optional method of inspection for both the initial and repetitive inspections. This proposed AD would also add an initial and repetitive inspections of an additional inspection area, and repair if necessary. Additionally, this proposed AD would clarify that the previously optional structural modification is now required by other rulemaking. This proposed AD would also require you to use the service information described previously to perform these actions, except as discussed under “Differences Between the Proposed AD and Service Information.”

Differences Between the Proposed AD and Service Information

The service bulletin specifies that you may contact the manufacturer for instructions on how to repair certain conditions, but this proposed AD would require repairing those conditions in one of the following ways:

• Using a method that we approve; or

• Using data that meet the certification basis of the airplane, and that have been approved by an Authorized Representative for the Boeing Commercial Airplanes Delegation Option Authorization Organization whom we have authorized to make those findings.

Boeing Service Bulletin 727-53A0169, Revision 6, dated September 28, 2002, only specifies a “visual inspection” (in addition to the penetrant inspection) for cracking of the forward frame of the No. 3 cargo door cutout. We have determined that the procedures for this inspection in the service bulletin should be described as a “detailed inspection.” We have included Note 1 in this AD to define this type of inspection.

Additionally, the service bulletin describes procedures for accomplishing a structural modification that would terminate the repetitive inspections also described in that service bulletin. The service bulletin recommends accomplishing the structural modification prior to an airplane accumulating 60,000 total flight cycles. We have determined that this proposed AD should not contain a requirement for that terminating structural modification, because we have previously issued AD 90-06-09, which currently requires that structural modification for the affected airplanes.

Although the Accomplishment Instructions of the service bulletin describe procedures for submitting inspection findings to Boeing, we are not requiring that action in this proposed AD.

Clarification of Items Referenced in the Service Bulletin

Paragraph 3.B.7.c. of the Accomplishment Instructions and Step 1 of Figure 2 of Boeing Service Bulletin 727-53A0169, Revision 6, dated September 28, 2002, refer to “Detail 1” and “Detail 2.” However, in the drawing portion of Figure 2, those details are labeled “Detail A” and Detail “B.” Therefore, when instructed to refer to Detail 1 of Figure 2, operators should refer to Detail A; when instructed to refer to Detail 2 of Figure 2, operators should refer to Detail B. We have learned that Boeing intends to publish an information notice to inform operators of this issue.

Changes to Existing AD

This proposed AD would retain the requirements of AD 86-17-05 R1 (including the requirements of AD 86-17-05). Since AD 86-17-05 R1 was issued, the AD format has been revised, and certain paragraphs have been rearranged. As a result, the corresponding paragraph identifiers have changed in this proposed AD, as listed in the following table:

Revised Paragraph Identifiers
Requirement in AD 86-17-05 R1 | Corresponding requirement in this proposed AD
Paragraph A | Paragraph (f).
Paragraph B | Paragraph (g).
Paragraph C | Paragraph (h).
Paragraph D | Paragraph (n).

We have removed all references to “later FAA-approved revisions of the applicable service bulletin” in the “Requirements of AD 86-17-05 R1 With Reduced Threshold and New Optional Inspection Method,” to be consistent with FAA policy. We cannot use the phrase, “or later FAA-approved revisions,” in ADs because it violates Office of the Federal Register regulations for approving materials that are incorporated by reference. However, in paragraph (m) of this proposed AD, we are giving operators credit for actions done before the effective date of this AD in accordance with Revision 2, dated May 23, 1986; Revision 3, dated June 11, 1987; Revision 4, dated January 21, 1988; and Revision 5, dated November 2, 1989, of Boeing Service Bulletin 727-53A0169. We may decide to approve later revisions of the service bulletin as an alternative method of compliance with this proposed AD, as provided by paragraph (p) of this proposed AD.

We have also changed the term “landings” in the “Requirements of AD 86-17-05 R1 With Reduced Threshold and New Optional Inspection Method,” to “flight cycles” to be consistent with the new requirements of this proposed AD. This change has no effect on the compliance times specified in the “Requirements of AD 86-17-05 R1 With Reduced Threshold and New Optional Inspection Method.”

Costs of Compliance

There are about 269 airplanes of the affected design in the worldwide fleet. The new requirements of this AD add no additional economic burden. The current costs for U.S. operators to comply with this proposed AD are repeated for the convenience of affected operators, as follows:

Estimated Costs
Action | Work hours | Average labor rate per hour | Parts cost | Cost per airplane | Number of U.S.-registered airplanes | Fleet cost
Inspections (required by AD 86-17-05 R1), per inspection cycle | 6 | $65 | None | $390, per inspection cycle | 166 | $64,740, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-5714 (52 FR 32534, August 28, 1987) and adding the following new airworthiness directive (AD):

Boeing: Docket No. FAA-2006-24073; Directorate Identifier 2002-NM-272-AD.

Comments Due Date

(a) The Federal Aviation Administration must receive comments on this AD action by April 21, 2006.

Affected ADs

(b) This AD supersedes AD 86-17-05 R1.

Applicability

(c) This AD applies to Boeing Model 727-200 series airplanes, certificated in any category, equipped with a No. 3 cargo door, as identified in Boeing Service Bulletin 727-53A0169, Revision 2, dated May 23, 1986.

Unsafe Condition

(d) This AD results from additional reports of cracking in the forward frame of the No. 3 cargo door cutout. We are issuing this AD to detect and correct cracking of the forward frame and fuselage skin of the No. 3 cargo door cutout, which could result in failure of the frame and consequent rapid decompression of the airplane.

Compliance

(e) You are responsible for having the actions required by this AD performed within the compliance times specified, unless the actions have already been done.

Requirements of AD 86-17-05 RL With Reduced Threshold and New Optional Inspection Method

Inspections

(f) At the earlier of the times specified in paragraphs (f)(1) and (f)(2) of this AD: Do a penetrant or detailed inspection of the forward frame of the No. 3 cargo door cutout for cracking, in accordance with paragraph C. of the Accomplishment Instructions of Boeing Service Bulletin 727-53A0169, Revision 2, dated May 23, 1986. After the effective date of this AD, the penetrant or detailed inspection must be done in accordance with paragraph 3.B.3. of the Accomplishment Instructions of Boeing Service Bulletin 727-53A0169, Revision 6, dated September 28, 2002. If any cracking is found, repair in accordance with paragraph (h) or (l) of this AD, as applicable. Repeat the inspection at intervals not to exceed 2,200 flight cycles, until the preventative modification specified in paragraph (n) of this AD is done.

(1) Within the next 300 flight cycles after September 3, 1987 (the effective date of AD 86-17-05 R1), or prior to accumulating 29,000 total flight cycles, whichever occurs later, unless accomplished within the last 1,900 flight cycles.

(2) Prior to accumulating 18,000 total flight cycles, or within 2,200 flight cycles after the effective date of this AD, whichever occurs later.

(g) At the earlier of the times specified in paragraphs (g)(1) and (g)(2) of this AD: Do a detailed inspection of the forward frame of the No. 3 cargo door cutout for cracking, in accordance with paragraphs D. and E. of the Accomplishment Instructions of Boeing Service Bulletin 727-53A0169, Revision 2, dated May 23, 1986. After the effective date of this AD, the detailed inspection must be done in accordance with paragraphs 3.B.4. and 3.B.5. of the Accomplishment Instructions of Boeing Service Bulletin 727-53A0169, Revision 6, dated September 28, 2002. If any cracking is found, repair in accordance with paragraph (h) or (l) of this AD, as applicable. Repeat the inspection at intervals not to exceed 2,200 flight cycles, until the preventative modification specified in paragraph (n) of this AD is done.

(1) Within the next 300 flight cycles after September 3, 1987, or prior to accumulating 35,000 total flight cycles, whichever occurs later, unless accomplished within the last 1,900 flight cycles.

(2) Prior to accumulating 18,000 total flight cycles, or within 2,200 flight cycles after the effective date of this AD, whichever occurs later.

Repair

(h) Before further flight, repair any crack in the forward frame of the No. 3 cargo door cutout found before the effective date of this AD during any inspection required by paragraph (f) or (g) of this AD, in accordance with paragraph G. of the Accomplishment Instructions in Boeing Service Bulletin 727-53A0169, Revision 2, dated May 23, 1986. Repeat the inspections specified in paragraphs (f) and (g) of this AD at intervals not to exceed 2,200 flight cycles, for all areas of the forward frame not covered by the repair, in accordance with the Accomplishment Instructions of paragraphs C., D., and E. of Boeing Service Bulletin 727-53A0169, Revision 2, dated May 23, 1986.

New Requirements of This AD

Inspection of Repairs of the Frame Done Before the Effective Date of the AD

(i) For any repair to the forward frame of the No. 3 cargo door cutout done, as required by paragraph (h) of this AD, before the effective date of this AD: Within 18,000 flight cycles following the repair, or 2,200 flight cycles after the effective date of this AD, whichever occurs later, do a detailed inspection of the repair for cracking in accordance with the Accomplishment Instructions of Boeing Service Bulletin 727-53A0169, Revision 6, dated September 28, 2002. Thereafter, repeat the inspection at intervals not to exceed 2,200 flight cycles, until the preventative modification specified in paragraph (n) of this AD is done.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

New Inspections of Skin Surrounding the Frame

(j) Prior to the accumulation of 18,000 total flight cycles, or within 2,200 flight cycles after the effective date of this AD, whichever occurs later: Do a penetrant or detailed inspection for cracking of the fuselage skin of the No. 3 cargo door cutout between stringers S-24 and S-27, in accordance with paragraph 3.B.3. of the Accomplishment Instructions of Boeing Service Bulletin 727-53A0169, Revision 6, dated September 28, 2002. Repeat the inspection at intervals not to exceed 2,200 flight cycles, until the preventative modification specified in paragraph (n) of this AD is done.

Repair of Cracked Skin

(k) If any crack is found in the fuselage skin during any inspection required by paragraph (j) of this AD: Before further flight, repair the crack using a method approved in accordance with the procedures specified in paragraph (p) of this AD.

Repair of Cracked Frames and Post-Repair Inspections

(l) If, after the effective date of this AD, any crack is found in the forward frame of the No. 3 cargo door cutout during any inspection required by paragraph (f), (g), or (i) of this AD: Before further flight, do the actions specified in paragraph (l)(1), (l)(2), or (l)(3) of this AD, as applicable. Inspect the repair within 18,000 flight cycles following the repair, in accordance with paragraphs 3.B.4. and 3.B.5. of the Accomplishment Instructions of Boeing Service Bulletin 727-53A0169, Revision 6, dated September 28, 2002. Thereafter, repeat the inspections at intervals not to exceed 2,200 flight cycles, until the preventative modification specified in paragraph (n) of this AD is done.

(1) If cracks have not severed the inner flange, do an interim repair using a method approved in accordance with the procedures specified in paragraph (p) of this AD.

(2) Repair the crack in accordance with paragraph 3.B.7.b. of the Accomplishment Instructions of Boeing Service Bulletin 727-53A0169, Revision 6, dated September 28, 2002.

(3) Replace the cracked segment of the frame with a new or serviceable component and install the frame reinforcement preventative modification, in accordance with paragraph 3.B.7.c. of the Accomplishment Instructions of Boeing Service Bulletin 727-53A0169, Revision 6, dated September 28, 2002. This action terminates the requirements of this AD.

Repairs Done According to Previous Issues of the Service Bulletin

(m) Inspections and repairs done before the effective date of this AD in accordance with Boeing Service Bulletin 727-53A0169, Revision 2, dated May 23, 1986; Revision 3, dated June 11, 1987; Revision 4, dated January 21, 1988; and Revision 5, dated November 2, 1989, are acceptable for compliance with the corresponding requirements of paragraphs (h), (k), and (l) of this AD, as applicable.

Terminating Modification Required by AD 90-06-09

(n) At the same time as the applicable inspections provided in paragraphs (f), (g), (i), and (j) of this AD are accomplished, doing the frame reinforcement preventative modification required by paragraph A. of AD 90-06-09 or the frame reinforcement preventative modification specified in Figure 2 of Boeing Service Bulletins 727-53A0169, Revision 5, dated November 2, 1989; and Revision 6, dated September 28, 2002; terminates the requirements of this AD. Paragraph A. of AD 90-06-09 references Boeing Document D6-54860, Revision C, dated December 11, 1989, “Aging Airplane Structural Modification Program—Model 727” as the appropriate source of service information for accomplishing the frame reinforcement preventative modification (along with numerous other structural modifications required by paragraph A. of AD 90-06-09).

Information Submission

(o) Although the service bulletins referenced in this AD specify to submit certain information to the manufacturer, this AD does not include that requirement.

Alternative Methods of Compliance (AMOCs)

(p) (1) The Manager, Seattle ACO, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(4) An AMOC approved previously in accordance with AD 86-17-05 R1, is approved as an AMOC with the corresponding requirements and provisions of this AD.

Issued in Renton, Washington, on February 23, 2006.
Michael J. Kaszycki,
Acting Manager, Transport Airplane Directorate, Aircraft Certification Service.

[FR Doc. E6-3221 Filed 3-6-06; 8:45 am]

BILLING CODE 4910-13-P